DEPARTMENT OF THE INTERIOR

National Park Service

Notice of Submission of Study Package to Office of Management and Budget: Opportunity for Public Comment

AGENCY: Department of Interior, National Park Service, Mount Rainier National Park, Olympic National Park.

ACTION: Notice and request for comments.

Abstract: The National Park Service is conducting a telephone survey of households in western Washington State where the following national parks are located: Olympic National Park and Mount Rainier National Park. In this survey persons will be asked why they visit or do not visit either national park. This information will identify the reasons former visitors have stopped using the parks and why non-visitors do not go to the parks. The NPS goal in conducting the survey is to determine if former visitors have been displaced and if other persons do not go to Olympic and Mount Rainier national parks because of crowing and related factors, including traffic congestion, development, and difficulty in obtaining lodging or campsites in the parks.

SUMMARY: Under the provision of the Paperwork Reduction Act of 1995 and 5 CFR part 1320, Reporting and Record Keeping Requirements, the NPS invites public comment on the proposed information request (ICR). Comments are invited on: (1) The need for the information, including whether the information has practical utility; (2) the accuracy of the reporting burden estimate; (3) ways to enhance the quality, utility, and clarity of the information to be collected; and (4) ways to minimize the burden of the information collection on respondents, including the use of automated collection techniques or other forms of information technology.

The NPS goal in conducting these surveys is to determine why former visitors to Mount Rainier and Olympic national parks have stopped visiting the parks and why non-visitors do not visit.

There were no public comments received as a result of publishing in the Federal Register a 60-day notice of intention to request clearance of information collection for this survey.

DATES: Public comments will be accepted until May 9, 2001.

Send Comments to: Office of Information and Regulatory Affairs of OMB, Attention Desk Officer for the Interior Department, Office of Management and Budget, Washington, DC 20530.

The OMB has up to 60 days to approve or disapprove the information collection, but may respond after 30 days. Therefore, to ensure maximum consideration, OMB should receive public comments within 30 days from the date listed at the top of this page of the Federal Register.

FOR FURTHER INFORMATION OR A COPY OF THE STUDY PACKAGE SUBMITTED FOR OMB REVIEW, CONTACT: James Gramann, phone 979-845-4920, fax 979-845-0446, e-mail jgramann@rpts.tamu.edu.

SUPPLEMENTARY INFORMATION: Title: Development and Advancement of Carrying Capacity Management Techniques, Western Washington Household Survey.

Bureau Form Number: None.

OMB Number: To be assigned.

Expiration Date: To be assigned.

Type of Request: Request for new clearance.

Description of Need: The National Park Service needs information on displaced visitors and those who do not visit parks in order to advance recreational carrying capacity management techniques in the National Park System. The proposed information to be collected on displaced visitors and non-visitors is not available from existing records, sources, or observations.

Automated Data Collection: At the present time, there is no automated way to gather this information, since it includes asking residents about their perceptions and preferences regarding national park visits.

Description of Respondents: A sample of residents in counties in western Washington State.

Estimated Average Number of Respondents: 1000.

Estimate Average Number of Responses: Each respondent will respond only one time, so the number of responses will be the same as the number of respondents.

Estimated Average Burden Hour per Response: 15 minutes.

Frequency of Response: One time per respondent.

Estimated Annual Reporting Burden: 250 hours.

Dated: March 2, 2001.
Leonard E. Stowe,
Information Collection Clearance Officer, WASO Administrative Program Center, National Park Service.

[FR Doc. 01-8689 Filed 4-6-01; 8:45 am]

BILLING CODE 4310-70-M